DEPARTMENT OF ENERGY

Federal Energy Regulatory Commission

Combined Notice of Filings #2

Take notice that the Commission received the following exempt wholesale generator filings:

Docket Numbers: EG17-107-000.

Applicants: Clenera, LLC.

Description: Notice of Self-Certification Of Exempt Wholesale Generator Status of Clenera, LLC.

Filed Date: 5/15/17.

Accession Number: 20170515-5139.

Comments Due: 5 p.m. ET 6/5/17.

Docket Numbers: EG17-108-000.

Applicants: Carroll County Energy LLC.

Description: Notice of Self-Certification of Carroll County Energy LLC.

Filed Date: 5/15/17.

Accession Number: 20170515-5141.

Comments Due: 5 p.m. ET 6/5/17.

Take notice that the Commission received the following electric rate filings:

Docket Numbers: ER16-2307-002.

Applicants: Vista Energy Marketing, L.P.

Description: Notice of change in status of Vista Energy Marketing, L.P.

Filed Date: 5/10/17.

Accession Number: 20170510-5127.

Comments Due: 5 p.m. ET 5/31/17.

Docket Numbers: ER17-527-001.

Applicants: InterGen Energy Solutions, LLC.

Description: Notice of Change in Status of InterGen Energy Solutions, LLC.

Filed Date: 5/15/17.

Accession Number: 20170515-5092.

Comments Due: 5 p.m. ET 6/5/17.

Docket Numbers: ER17-1596-000.

Applicants: Michigan Electric Transmission Company, LLC.

Description: § 205(d) Rate Filing: Cancellation of Concurrence to Operating Agreement to be effective 12/7/2015.

Filed Date: 5/15/17.

Accession Number: 20170515-5074.

Comments Due: 5 p.m. ET 6/5/17.

Docket Numbers: ER17-1597-000.

Applicants: Michigan Electric Transmission Company, LLC.

Description: § 205(d) Rate Filing: Cancellation of Concurrence to Facilities Agreement to be effective 12/7/2015.

Filed Date: 5/15/17.

Accession Number: 20170515-5082.

Comments Due: 5 p.m. ET 6/5/17.

Docket Numbers: ER17-1598-000.

Applicants: International Transmission Company.

Description: § 205(d) Rate Filing: Cancellation of Operating Agreement to be effective 12/7/2015.

Filed Date: 5/15/17.

Accession Number: 20170515-5085.

Comments Due: 5 p.m. ET 6/5/17.

Docket Numbers: ER17-1599-000.

Applicants: International Transmission Company.

Description: § 205(d) Rate Filing: Cancellation of Facilities Agreement to be effective 12/7/2015.

Filed Date: 5/15/17.

Accession Number: 20170515-5087.

Comments Due: 5 p.m. ET 6/5/17.

Docket Numbers: ER17-1600-000.

Applicants: Union Leader Corporation.

Description: Tariff Cancellation: Cancellation of Union Leader MBR Tariff to be effective 5/15/2017.

Filed Date: 5/15/17.

Accession Number: 20170515-5090.

Comments Due: 5 p.m. ET 6/5/17.

Docket Numbers: ER17-1601-000.

Applicants: Naniwa Energy LLC.

Description: Tariff Cancellation: Cancellation Filing to be effective 5/16/2017.

Filed Date: 5/15/17.

Accession Number: 20170515-5091.

Comments Due: 5 p.m. ET 6/5/17.

Docket Numbers: ER17-1602-000.

Applicants: AEP Texas Inc.

Description: § 205(d) Rate Filing: AEP TX-The Energy Authority ERCOT Regional TSA to be effective 4/17/2017.

Filed Date: 5/15/17.

Accession Number: 20170515-5093.

Comments Due: 5 p.m. ET 6/5/17.

Docket Numbers: ER17-1603-000.

Applicants: Dominion Energy Marketing, Inc.

Description: Compliance filing: Compliance Filing—Name Change to Dominion Energy Generation Marketing, Inc. to be effective 5/12/2017.

Filed Date: 5/15/17.

Accession Number: 20170515-5099.

Comments Due: 5 p.m. ET 6/5/17.

Docket Numbers: ER17-1604-000.

Applicants: Dominion Nuclear Connecticut, Inc.

Description: Compliance filing: Compliance Filing—Name Change to Dominion Energy Nuclear Connecticut, Inc. to be effective 5/12/2017.

Filed Date: 5/15/17.

Accession Number: 20170515-5103.

Comments Due: 5 p.m. ET 6/5/17.

Docket Numbers: ER17-1605-000.

Applicants: Fairless Energy, LLC.

Description: Compliance filing: Compliance Filing—Name Change to Dominion Energy Fairless, LLC to be effective 5/12/2017.

Filed Date: 5/15/17.

Accession Number: 20170515-5108.

Comments Due: 5 p.m. ET 6/5/17.

Docket Numbers: ER17-1606-000

Applicants: Wabash Valley Power Association, Inc.

Description: § 205(d) Rate Filing: WVPA—Amendments to Rate Schedules—Solar Delivery Points to be effective 7/15/2017.

Filed Date: 5/15/17.

Accession Number: 20170515-5130.

Comments Due: 5 p.m. ET 6/5/17.

Docket Numbers: ER17-1607-000.

Applicants: Sunray Energy 2, LLC.

Description: Baseline eTariff Filing: Sunray 2—MBR Application to be effective 5/19/2017.

Filed Date: 5/15/17.

Accession Number: 20170515-5138.

Comments Due: 5 p.m. ET 6/5/17.

Docket Numbers: ER17-1608-000.

Applicants: Sunray Energy 3 LLC.

Description: Baseline eTariff Filing: Sunray 3—MBR Application to be effective 6/2/2017.

Filed Date: 5/15/17.

Accession Number: 20170515-5140.

Comments Due: 5 p.m. ET 6/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2017..
Kimberly D. Bose,
Secretary.

[FR Doc. 2017-10382 Filed 5-19-17; 8:45 am]

BILLING CODE 6717-01-P